GENERAL SERVICES ADMINISTRATION

[OMB Control No. 3090-0204]

General Services Administration Acquisition Regulation; Submission for OMB Review; Commercial Delivery Schedule Clause and Notice of Shipment

AGENCY: Office of the Chief Acquisition Officer, GSA.

ACTION: Notice of request for comments regarding a renewal to an existing OMB clearance.

SUMMARY: Under the provisions of the Paperwork Reduction Act of 1995 (44 U.S.C. Chapter 35), the General Services Administration will be submitting to the Office of Management and Budget (OMB) a request to review and approve a renewal of a currently approved information collection requirement regarding commercial delivery schedule clause and notice of shipment. A request for public comments was published at 73 FR 78800, December 23, 2008. No comments were received.

Public comments are particularly invited on: Whether this collection of information is necessary and whether it will have practical utility; whether our estimate of the public burden of this collection of information is accurate, and based on valid assumptions and methodology; ways to enhance the quality, utility, and clarity of the information to be collected.

DATES: Submit comments on or before: June 18, 2009.

FOR FURTHER INFORMATION CONTACT: Suzanne Neurauter, Procurement Analyst, Contract Policy Division, at telephone (202) 208-0310 or via e-mail at Suzanne.neurauter@gsa.gov.

ADDRESSES: Submit comments regarding this burden estimate or any other aspect of this collection of information, including suggestions for reducing this burden to the GSA Desk Officer, OMB, Room 10236, NEOB, Washington, DC 20503, and a copy to the Regulatory Secretariat (VPR), General Services Administration, 1800 F Street, NW., Room 4041, Washington, DC 20405. Please cite OMB Control No. 3090-0204, Commercial Delivery Schedule Clause and Notice of Shipment in all correspondence.

SUPPLEMENTARY INFORMATION:

A. Purpose

The Commercial Delivery Schedule (Multiple Award Schedule) clause required offerors to provide their commercial delivery terms and conditions. FSS awards contracts to commercial firms under terms and conditions that mirror commercial practices for the supplies and services. In order to ensure the Government obtains the supplies within the offeror's commercial delivery timeframe, the offeror must provide the information requested in the GSAR clause, Commercial Delivery Schedule (Multiple Award Schedule). Such a notice is necessary when preparations need to be made for docking arrangements, storage, trans-shipment of materials handling equipment of supplies and equipment upon delivery, labor and inside delivery at destination.

B. Annual Reporting Burden

Total Responses annually: 10,305

Hours per Response: .26

Total Burden Hours: 2741

Obtaining Copies of Proposals: Requesters may obtain a copy of the information collection documents from the General Services Administration, Regulatory Secretariat (VPR), 1800 F Street, NW., Room 4041, Washington, DC 20405, telephone (202) 501-4755. Please cite OMB Control No. 3090-0204, Commercial Delivery Schedule Clause and Notice of Shipment, in all correspondence.

Dated: May 12, 2009.
Al Matera,
Director, Office of Acquisitions Policy .

[FR Doc. E9-11578 Filed 5-18-09; 8:45 am]

BILLING CODE 6820-61-P